DEPARTMENT OF JUSTICE

Office of Juvenile Justice and Delinquency Prevention

[OJP (OJJDP)-1283]

Program Announcement for Hate Crime Prevention: A Comprehensive Approach

AGENCY: Office of Justice Programs, Office of Juvenile Justice and Delinquency Prevention, Justice.

ACTION: Notice of solicitation.

SUMMARY: The Office of Juvenile Justice and Delinquency Prevention (OJJDP) is requesting applications for Hate Crime Prevention: A Comprehensive Approach. The purpose of the program is to disseminate information on promising approaches to reduce and prevent incidents of hate crimes and hate-related behavior committed by youth and to provide training and technical assistance to help law enforcement, communities, and schools implement effective hate crime prevention programs and activities.

DATES: Applications must be received by August 7, 2000.

ADDRESSES: Interested applicants can obtain the OJJDP Application Kit from the Juvenile Justice Clearinghouse at 800-638-8736. The Application Kit is also available at OJJDP's Web site at www.ojjdp.ncjrs.org/grants/about.html#kit. (See “Format” and “Delivery Instructions” later in this announcement for instructions on required standards and the address to which applications must be sent.)

FOR FURTHER INFORMATION CONTACT: Frank Porpotage, Deputy Director, Training and Technical Assistance Division, at 202-616-3634. [This is not a toll-free number].

SUPPLEMENTARY INFORMATION:

Purpose

To disseminate information and provide training and technical assistance on promising approaches to prevent and reduce incidents of hate crimes and hate-related behavior committed by youth.

Background

Hate crime is a serious problem in the United States, not only because of the number of individual victims but also because of the devastating impact hate violence has on families, communities, and institutions. Over the past few years, the Nation has witnessed an alarming number of violent hate crimes motivated by the perpetrators' bias toward their victims' perceived racial or ethnic identity, religion, nationality, sexual orientation, gender, or disability.

Since the enactment of the 1990 Hate Crime Statistics Act (HCSA), the Federal Government has worked to establish national statistics on hate crimes. In response to the 1990 law, the Attorney General directed the Federal Bureau of Investigation (FBI) to add hate crime as a category in the Uniform Crime Reporting (UCR) Program. Although hate crime reporting by law enforcement agencies is voluntary under Federal law, the Justice Department has provided extensive training to State and local law enforcement agencies, resulting in increased reporting and improved programs for responding to hate crimes.

The 1990 HCSA defined hate crimes as “crimes that manifest evidence of prejudice based on race, religion, sexual orientation, or ethnicity.” The Violent Crime and Law Enforcement Act of 1994 amended the HCSA to include crimes motivated by bias against persons with disabilities in the definition of hate crimes.

Analysts in the field have noted that reporting under the HCSA has increased public awareness of, and improved local law enforcement's response to, hate crime violence; however, the reporting records remain incomplete. Because hate crime reporting by law enforcement agencies is voluntary under Federal law, experts believe the data do not completely describe the number and nature of hate crimes that occur nationally. In spite of these irregularities, the Hate Crime Statistics data for 1998 indicated that 9,235 hate crimes were reported in that year.

To increase hate crime awareness and support hate crime prevention efforts, the 1992 reauthorization of the Juvenile Justice and Delinquency Prevention Act of 1974, as amended (Pub. L. 93-415, 42 U.S.C. 5601 et seq.), authorized the Office of Juvenile Justice and Delinquency Prevention (OJJDP) to fund research, training, and program efforts in support of hate crime awareness, education, and prevention. Congress directed OJJDP to establish and/or support model educational programs designed to prevent or reduce incidents of hate crimes by juveniles, including (1) programs that address prejudicial attitudes of juveniles, develop awareness of the effect of hate crime on the victim, and educate the offender about the importance of tolerance in our society and (2) sentencing programs for juveniles who commit hate crimes (42 U.S.C. 5665 (a)(9)).

In 1994, the Safe and Drug-Free Schools and Communities Act was reauthorized as part of the Improving America's Schools Act (Pub. L. 103-382). One of the most significant changes was the authorization of school violence prevention activities. The focus on school safety was based on a recognition that schools needed to expand the types of prevention and early intervention activities they were developing to ensure safe, healthy, disciplined, and drug-free students. In response to this broadened program authority, Congress authorized the U.S. Department of Education (ED) to develop education and training programs, curriculums, instructional materials, and professional training to prevent and reduce the incidence of crimes and conflicts motivated by hate in localities most directly affected by hate crimes (20 U.S.C. 7131).

In general, hate crimes are “message” crimes intended to provoke fear, marginalize members of society, and disrupt the social order. In recent years, these crimes have incited fear and intimidation in many communities throughout the Nation. No community is immune. Hate crimes have been reported in all regions of the country. These crimes have a wrenching impact on their victims, who are often terrorized and tormented. They also have a devastating impact on all members of groups that are the target of hate crime and a corrosive impact on community and civil rights.

Although existing hate crime data do not present a complete picture, they are useful in providing important information about the extent of hate crime, its victims, and its perpetrators. Examination of such data enables policymakers and professionals to identify the groups that are most likely to be victimized or become perpetrators and provide support and guidance for programs, resources, and services.

While schools report that they have few, if any, hate crimes, educators agree that on a daily basis they deal with various forms of unacceptable bias-/hate-motivated and related behaviors that disrupt the learning environment. For the purpose of this program announcement, hate-related behaviors are defined to include (but are not limited to) the following: harassment, intimidation, bullying, taunting, graffiti, name calling, and fighting, when the victim of any of these behaviors is intentionally selected because of his or her race, color, religion, national origin, gender, disability, sexual orientation, and/or physical appearance.

Until recently, scant information has been available on juvenile involvement as either perpetrators or victims of hate crime. However, current national, State, and local information sources document an increasing involvement of juveniles in hate crimes or hate-related behavior:

• According to hate crime data in Massachusetts for the years 1996 and 1997, nearly 63 percent of perpetrators were under the age of 21 (Department of Public Safety, 1998).

• A 1990 study of New York City police data showed that the median age for bias offenders was 18 and that 56 percent were under the age of 21 (Southern Poverty Law Center, 1995).

Additional studies (cited below) have examined the incidence of hate crimes and the role of juveniles as either the victims or perpetrators of such crimes. Student surveys also support the view that hate crime prevention efforts need to be focused on youth.

In a sample of 1,865 high school students attending 10th, 11th, and 12th grades in public, parochial, and private schools across the country, more than half of the students interviewed claimed that they had witnessed racial confrontations either “very often” or “once in a while.” One in four students said that they were prepared to intervene in, or even condemn, a confrontation based on racial hatred. However, almost half of the students interviewed either admitted that they would join in an attack or agreed that the group under attack was “getting what it deserved” (Harris, 1990).

A study of 1,570 elementary, middle, and secondary schools in Los Angeles County also supports the view that hatred among youth is a critical problem. Thirty-seven percent of these schools reported incidents of hate-motivated violence during a school year. Students in middle and high schools were particularly likely to have experienced hate violence, with a response rate of 47 percent and 42 percent, respectively. Thirty-four percent of the elementary schools also reported hate incidents (Los Angeles Commission on Human Relations, 1990).

A poll conducted by Penn, Schoen & Berland Associates (1999) revealed that more than 90 percent of young people surveyed thought that hate crimes were a serious problem. Eighty-nine percent of the youth believed that the problem of hate crime affects all areas of the country, and 33 percent indicated that the problem of hate crime has become more severe.

Although most hate crimes are perpetrated by individuals acting on their own (Levin and McDevitt, 1993), there is a long history of organized hatred in the United States. Hate groups contribute to community unrest and the escalation of community violence. Developmentally, adolescents may also be more susceptible to hate ideology and propaganda. Some hate propaganda is particularly emotionally charged and can resonate with angry, alienated, and isolated teens who seek someone to blame for their unhappiness (Stanton, 1992). The individual juvenile who commits hate crimes, whether or not he or she is affiliated with an organized hate group, continues to pose a major challenge to youth-serving professionals. Another significant challenge is to conceptualize, fashion, and implement interventions that will modify a juvenile hate crime offender's prejudice, belief system, and violent behavior. These challenges require the collaboration of many disciplines to address the problem comprehensively.

In 1997, the Leadership Conference on Civil Rights (LCCR) and the Leadership Conference Education Fund published a report entitled Cause for Concern: Hate Crimes in America, which noted an increasing trend in hate crime violence and the use of the Internet to spread messages of hate. This report also indicated that a large number of hate crime “perpetrators are youthful thrill-seekers, rather than hardcore haters,” suggesting that hate crime prevention and education programs could be effective in reducing hate crime violence committed by juveniles.

In the same year, the Anti-Defamation League's publication High Tech Hate: Extremist Use of the Internet discussed the impact of the Internet on individuals and groups of all ages, especially students from elementary to college levels. The growth of hate crimes through this medium challenges all persons working with youth to develop programs that will provide critical thinking skills and media literacy to teach youth to resist hate propaganda messages and affiliations that may be found on the Internet.

OJJDP and the Department of Education's Safe and Drug-Free Schools (SDFS) Program have recognized the need to provide assistance to help prevent the commission of hate crimes by juveniles. Since 1997, this assistance has taken the form of joint funding to support training programs for policymakers working with communities and youth and technical assistance to several sites implementing innovative hate crime prevention initiatives.

In response to the growing demand by communities, law enforcement, and schools for additional hate crime and hate-related behavior information, training, and technical assistance, OJJDP and SDFS are pleased to announce a new competitive program: Hate Crime Prevention: A Comprehensive Approach. This jointly funded information and training and technical assistance program is designed to address the problem of juvenile hate crime and identify effective components of hate crime prevention programs. The program will focus on (1) disseminating information about promising practices and available resources; (2) providing training and technical assistance on effective school-based hate-related behavior prevention programs; and (3) promoting national and local level collaboration among youth and professionals from different disciplines who work with young people (e.g., educators, law enforcement officers, judges, representatives of community agencies and organizations, clergy) to support institutional change to prevent and reduce the incidence of hate crime.

Goals

The goals of this project are twofold:

• To enhance awareness of promising approaches to reduce and prevent incidents of hate crimes committed by youth.

• To assist communities, law enforcement, and schools in providing effective hate crime prevention programs and activities that prevent and reduce incidents of hate crime and promote greater tolerance among youth.

Objectives

To accomplish these goals, the Hate Crime Prevention initiative will:

• Improve the knowledge of hate crimes and related issues among law enforcement, youth-serving professionals, and educators.

• Provide training and technical assistance to local youth-serving agencies, schools, and law enforcement in implementing promising hate crime and hate-related behavior prevention activities and programs.

• Disseminate information about emerging hate crime and hate-related behavior prevention issues, programs, and strategies.

• Promote collaboration among multidisciplinary organizations and agencies to prevent, reduce, and respond to hate crimes and hate-related behavior.

• Develop resource materials, publications, and guides to inform and assist practitioners, policymakers, and communities to address the problem of hate crimes and hate-related behavior.

Target Population

The major clients to be served with the implementation of the Hate Crime Prevention: A Comprehensive Approach initiative include youth and professionals working in:

• Juvenile justice, including law enforcement, prosecutors, and the judiciary.

• Education.

• Youth-serving organizations representing both education-related and justice-related audiences.

• Criminal justice (as in the juvenile justice category, the criminal justice audience includes law enforcement, prosecutors, and the judiciary).

• Community agencies and organizations.

Program Strategy

OJJDP will competitively select a single organization to implement the hate crime prevention training and technical assistance program, for an initial 12-month budget period, within a 3-year project period. Partnerships are encouraged, and when they are utilized, a single agency or organization must be identified as having lead responsibility for the project.

Applicants must clearly demonstrate experience in the delivery and management of national multifaceted training and technical assistance programs, expertise on the topic of hate crimes, and an understanding of the challenges that exist in the field of hate crime prevention programming. Applicants are encouraged to be creative in their approach to designing and delivering technical assistance and training, reflecting an understanding of the resources and constraints of the various disciplines involved in implementing a juvenile hate crime prevention and reduction program.

Applications must include detailed plans for implementing training and technical assistance, including measurable goals and objectives. Applicants should indicate how they will incorporate electronic mediums for providing training and technical assistance via teleconferencing and other Internet based modalities. Applicants must also provide timelines and a description of how the program will provide technical assistance and training, on the specific hate crime and hate-related behavior prevention program areas listed below, across diverse disciplines and jurisdictions.

Hate crime prevention topics to be addressed through training and technical assistance include the following:

• Youth hate crime and hate-related behavior prevention principles.

• Hate crime definitions.

• Hate crime and hate-related behavior identification and the scope of the problem.

• Hate crime and hate-related behavior impact and its relationship to prevention programs.

• Tools and materials designed to reduce prejudice and prevent hate crime and hate-related behavior in communities.

• The legislative and legal issues pertaining to Federal criminal statutes, the Hate Crime Statistics Act, and State hate crime legislation, including model hate crime legislation.

• Diversion and sentencing innovations for juvenile offenders.

• Effective law enforcement, school, and community hate crime collaborations.

• Strategies for mobilizing communities and schools to prevent hate crimes and hate-related behavior.

Applicants' training and technical assistance design must reflect recent research on effective hate crime and hate-related behavior prevention programming; explain how the delivery and development of materials will occur, with consideration given to the diverse needs of the various disciplines involved in implementing hate crime and hate-related behavior prevention efforts; and provide a plan for producing program deliverables.

Deliverables

In addition to developing a training and technical assistance strategy based on the areas described above, the selected applicant will provide the following deliverables over the 36-month project period:

• Develop a program guide outlining promising, age-appropriate hate crime and hate-related behavior prevention activities that can be used in a variety of settings and providing guidance to those working with elementary school age children. This guide would also discuss policies that should be developed to support hate crime and hate-related behavior prevention and provide suggestions on how to work with children who engage in this behavior.

• Develop a manual for parents, school personnel, and community members working with youth to provide guidance for helping school-age youth recognize and make critical choices regarding messages of racism, prejudice, bigotry, and other hateful material on the Internet.

• Design and deliver two training of trainers (TOT) courses per year, using existing OJJDP and Department of Education materials for middle school students to develop a cadre of trainers capable of training others to develop and implement effective and innovative hate crime prevention programs and activities in schools and communities.

• Organize and conduct one multidisciplinary regional training per year for practitioners with the goal of presenting current knowledge and emerging practices in the area of hate crime and hate-related behavior prevention and response. This training must be held in a specific region of the country having a high incidence of reported hate crime activity and one or more active public/private hate crime prevention collaborations or programs.

• Develop a strategy using existing OJJDP and Department of Education materials to recruit, train, and include senior high and middle school students as peer leaders in supporting hate crime and hate-related behavior prevention activities and develop program guides to work with middle school and senior high school students.

• Develop a plan and deliver one national/State hate crime and hate-related behavior prevention training per year targeted to policymakers in the fields of juvenile justice, criminal justice, and education and in youth-serving organizations.

• Develop a plan and provide onsite technical assistance to three new sites per year. Selection criteria for these sites should include evidence of multidisciplinary hate crime community collaboration and an action plan documenting need for assistance to implement a hate crime and hate-related behavior prevention effort.

• Design and implement a plan to promote hate crime prevention and project activities, including training and technical assistance activities, to a national audience.

• Design and implement appropriate evaluation measures to assess the training and technical assistance services provided.

• Prepare a report summarizing participant training and technical assistance evaluations to be used for the purpose of improving future training and technical assistance delivery and providing insight into existing hate crime and hate-related behavior prevention needs.

• Develop and maintain a hate crime and hate-related behavior prevention Web site to disseminate information and update the field about hate crime prevention programs, information, events, resources, training and technical assistance services, and strategies for effective alternatives to incarceration for juvenile hate crime offenders.

• Disseminate information through the Web site and other networks.

• Develop three technical assistance bulletins/guides (one of which will be directed to Federal, State, and local law enforcement and policymakers, one to teachers and parents, and the other one to youth) to provide critical information on hate crime and six technical assistance briefs (two per year) based on case studies of specific sites that have received training and technical assistance and are implementing effective or promising hate crime prevention efforts.

• Create and foster active partnerships with other national public/private organizations involved in promoting tolerance and hate crime prevention for the purpose of improving services, providing outreach, avoiding duplication of efforts, and promoting linkages to facilitate information exchange.

• Organize an advisory group of professionals representative of the broad range of constituencies involved in hate crime and hate-related behavior prevention issues to provide guidance on project activities during the grant period. The advisory group must include educators, parents, and juvenile justice and criminal justice professionals, among others.

• Convene two advisory group meetings each project year.

Applicants should be realistic in setting the cost of deliverables and in outlining the implementation schedule. Applicants are also encouraged to be innovative in their approach as OJJDP and ED will consider nontraditional training and technical assistance delivery approaches so long as the goals and objectives of the program are met. In addition, the principles listed below must be incorporated.

Guiding Principles

Technical assistance and training will be provided in a manner consistent with the following principles:

• Address legislative requirements of Federal and State hate crime laws.

• Be designed and delivered in a manner that supports the empowerment of local communities and jurisdictions to implement appropriate strategies.

• Be proactive and comprehensive.

• Be user-friendly and consumer driven.

• Use uniform protocols for needs assessment, delivery of training and technical assistance, evaluation, tracking, and followup.

• Base curriculum development on adult learning theory and deliver the curriculum within the context of an interactive structure.

• Be coordinated to effectively and efficiently use the expertise of a range of recognized public and private experts in the hate crime prevention field.

• Be sensitive to diverse cultural and ethnic needs and religious affiliations.

• Take into consideration local needs and resources.

Selection Criteria

Applicants will be rated by a peer review panel on the extent to which they meet the criteria outlined below.

Problem(s) To Be Addressed (15 points)

Applicants must clearly demonstrate an understanding of the problem(s) addressed by the project and the issues relevant to hate crime practices and their relation to the concept of a comprehensive hate crime prevention program.

Goals and Objectives (5 points)

Applicants must provide succinct statements that demonstrate how the goals and objectives associated with the project will be addressed. Technical assistance and training relating to the objectives must be clearly stated and measurable.

Project Design (40 points)

Applicants must present a project design that is specific and constitutes an effective approach to meeting the goals and objectives of this program. The design must include a detailed work plan with timelines that link the training and technical assistance deliverables to the hate crime program areas to be addressed. Applicants must demonstrate how these activities can be expected to achieve the program's overall goals. The design must provide protocols for assessment of technical assistance and training needs, as well as the protocols that will be used in the actual delivery of technical assistance. It must also describe the process and structure that will be used for curriculum development with demonstration of how adult learning theory will be employed in its design. The design must indicate how project objectives will be met. Proposals should include a cohesive, well-developed plan for meeting project objectives and translating research on promising hate crime prevention programs into practice.

Competitiveness will be enhanced by applicants who clearly discuss how the required training and technical assistance tasks will be delivered in a number of different community settings to persons of diverse cultural, ethnic, religious, and socioeconomic backgrounds.

Competitiveness also will be enhanced by applicants whose program strategy clearly demonstrates broad outreach and collaboration with various constituency groups, including professional associations representing the education and juvenile justice fields and other organizations working to prevent, reduce, and respond to hate crimes. Demonstrable knowledge of current research on hate crime prevention and age-appropriate educational prevention strategies is essential. Applicants should show how these will support the implementation of the program, development of program materials, and delivery of services.

Project Management and Organizational Capability (30 points)

The application must include a discussion of how the grantee will coordinate and manage this program to achieve product development and meet training and technical assistance needs.

Key staff should have significant experience with the delivery of training and technical assistance, experience with hate crime prevention, and knowledge of development, education, diversity, prevention issues, and victim service programs.

Applicants must demonstrate production and computer capabilities or describe how they will meet the requirements for producing the required publications and materials.

Applicants must include rèsumès of key staff and identify how and for what percentage of time they will be used with respect to specific tasks. Applicants must demonstrate how they will manage onsite and offsite training and technical assistance delivery and describe their experience in planning conferences of varying sizes.

Budget (10 points)

Applicants must provide a proposed budget that is detailed, reasonable, and cost effective for the activities undertaken and all of the deliverables to be produced.

Applicants should include the cost of hotel and meal expenses of participants in the training of trainers courses, technical assistance programs, and regional training and technical assistance program. Trainees will not be charged any fee for attendance or materials at any training conference sponsored by the grantee or for other training and technical assistance deliverables.

Eligibility Requirements

OJJDP invites applications from public and private agencies, organizations, institutions, or individuals. Private, for-profit organizations must agree to waive any profit or fees.

Format

The narrative portion of the proposal must not exceed 50 pages in length. The narrative portion includes the abstract; problem statement; work plan/timelines; narrative; project goals, objectives, design, and staffing; detailed budget worksheets and budget narrative; description of products developed under this grant, if applicable; and proposed evaluation methods and strategy. The application should be submitted on 8½ by 11-inch paper, double spaced on one side of the paper, in a standard 12-point font and with pages numbered sequentially. Appendixes combined may not exceed 30 pages in length. Appendixes must include letter(s) of commitment, résumés/job descriptions, and project evaluation, if the project has been evaluated. These requirements will ensure fair and uniform standards among all applicants. If the narrative does not conform to these standards, OJJDP will deem the application ineligible for consideration.

Award Period

The project will be for a 3-year project period, funded in three 1-year budget periods. Funding after the first budget period depends on performance of the grantee, availability of funds, and other criteria established at the time of award.

Award Amount

Up to $1 million is available for the initial 1-year budget period.

Catalog of Federal Domestic Assistance (CFDA) Number

For this program, the CFDA number, which is required on Standard Form 424, Application for Federal Assistance, is 16.542. This form is included in the OJJDP Application Kit, which can be obtained by calling the Juvenile Justice Clearinghouse at 800-638-8736 or sending an e-mail request to puborder@ncjrs.org. The Application Kit is also available online at www.ojjdp.ncjrs.org./grants/about.html#kit.

Coordination of Federal Efforts

To encourage better coordination among Federal agencies in addressing State and local needs, the U.S. Department of Justice (DOJ) is requesting applicants to provide information on the following: (1) Active Federal grant award(s) supporting this or related efforts, including awards from DOJ; (2) any pending application(s) for Federal funds for this or related efforts; and (3) plans for coordinating any funds described in items (1) or (2) with the funding sought by this application. For each Federal award, applicants must include the program or project title, the Federal grantor agency, the amount of the award, and a brief description of its purpose.

The term “related efforts” is defined for these purposes as one of the following:

1. Efforts for the same purpose (i.e., the proposed award would supplement, expand, complement, or continue activities funded with other Federal grants).

2. Another phase or component of the same program or project (e.g., to implement a planning effort funded by other Federal funds or to provide a substance abuse treatment or education component within a criminal justice project).

3. Services of some kind (e.g., technical assistance, research, or evaluation) to the program or project described in the application.

Delivery Instructions

All application packages should be mailed or delivered to the Office of Juvenile Justice and Delinquency Prevention, c/o Juvenile Justice Resource Center, 2277 Research Boulevard, Mail Stop 2K, Rockville, MD 20850; 301-519-5535. Faxed or e-mailed applications will not be accepted. Note: In the lower left-hand corner of the envelope, you must clearly write “Hate Crime Prevention: A Comprehensive Approach.”

Due Date

Applicants are responsible for ensuring that the original and five copies of the application are received no later than 5 p.m. ET on August 7, 2000.

Contact

For further information, call Frank Porpotage, Deputy Director, Training and Technical Assistance Division, at 202-616-3634, or send an e-mail inquiry to Frank@ojp.usdoj.gov.

References

Association for Supervision and Curriculum Development. 1999. Reducing the effects of racism in schools. Educational Leadership 7:56.

Anti-Defamation League. 1997. High-Tech Hate: Extremists Use of the Internet. New York, NY: Anti-Defamation League.

Anti-Defamation League. 1999. Hate Crime Laws. Washington, DC: Anti-Defamation League.

Bureau of Justice Assistance. 1997. A Policymaker's Guide to Hate Crimes. Monograph. Washington, DC: U.S. Department of Justice, Office of Justice Programs, Bureau of Justice Assistance.

Bureau of Justice Assistance. 2000. Addressing Hate Crimes: Six Initiatives that are Enhancing the Efforts of Criminal Justice Practitioners. Monograph. Washington, DC: U.S. Department of Justice, Office of Justice Programs, Bureau of Justice Assistance.

Buzzell, T., and Carlson, A. 1995. Teens, Crime and the Community and Adjudicated Youth. Washington, DC: National Crime Prevention Council.

Community Relations Service. 1998. Hate Crime: The Violence of Intolerance. Monograph. Washington, DC: U.S. Department of Justice, Community Relations Service.

Criminal Justice Information Services Division. 1998. Hate Crime Statistics Over Time, 1991-1997. Clarksburg, WV: U.S. Department of Justice, Federal Bureau of Investigation, Criminal Justice Information Services Division.

Federal Bureau of Investigation. 1996. Training Guide for Hate Crime Data Collection, Summary Reporting System. Washington, DC: U.S. Department of Justice/FBI, National Incident-Based Reporting System, Uniform Crime Reporting.

Governor's Task Force on Hate Crimes. 1998. Hate Crimes in Massachusetts: Annual Report 1997. Boston: Department of Public Safety.

Leadership Conference Education Fund, Leadership Conference on Civil Rights. 1997. Cause for Concern: Hate Crimes in America. Washington, DC: Leadership Conference Education Fund.

Levin, B. 1992. Bias crimes: A theoretical & practical overview. Stanford Law & Policy Review (Winter).

Levin, B. 1993. A dream deferred: The social and legal implications of hate crimes in the 1990's. Journal of Intergroup Relations 10(3):3-25.

Levin, J. and McDevitt, J. 1993. Hate Crimes: The Rising Tide of Bigotry and Bloodshed. New York: Plenum Press.

Los Angeles County Commission on Human Relations. 1989. Intergroup Conflict in Los Angeles County Schools: Report on a Survey of Hate Crime. Los Angeles, CA: Los Angeles County Commission on Relations.

McLaughlin, K., Brilliant, K., and Lang, C. 1994. Bias Crimes: National Bias Crime Training for Law Enforcement and Victim Assistance Professionals. Newton, MA: Educational Development Center, Inc., and the Massachusetts Criminal Justice Training Council.

McLaughlin, K., and Brilliant, K. 1997. Healing the Hate: A National Bias Crime Prevention Curriculum for Middle Schools. Newton, MA: Education Development Center, Inc.

National Telecommunications and Information Service. 1993. The Role of Telecommunications in Hate Crimes. Washington, DC: U.S. Department of Commerce. Leadership Conference Education Fund, Leadership Conference on Civil Rights.

Penn, Schoen and Berland Associates.1999 (March). The state of hate crimes in America: A survey of young Americans. Unpublished study. Washington, DC: Penn, Schoen and Berland Associates.

Southern Poverty Law Center. 1994. Ten Ways to Fight Hate: A Community Response Guide to Hate Crime and Hate Groups. Montgomery, Al: Southern Poverty Law Center.

Stanton, S., ed. 1992. Hatred in Georgia. Atlanta, GA: The Neighbor's Network.

University of Michigan. 1996. Abolishing Harassment. Equity Coalition. Ann Arbor, MI: Programs for Educational Opportunity, University of Michigan School of Education.

U.S. Department of Education. 1999. Protecting Students from Harassment Hate Crime: A Guide for Schools. Washington, DC: U.S. Department of Education, Office of Civil Rights.

U.S. Department of Education and U.S. Department of Justice. 1998. Preventing Youth Hate Crimes: A Manual for Schools and Communities. Washington, DC: Safe and Drug-Free Schools Program.

Useful Web Sites

These Websites include outstanding resources on hate crimes laws, antibias and prevention programs, and links to other related sites:

• www.ADL.org [Anti-Defamation League]

• www.civilrights.org [Leadership Conference on Civil Rights/Leadership Conference Ed. Fund]

• www.usdoj.gov/kidspage/ [Department of Justice Anti-Bias Kidspage]

• www.whitehouse.gov/Initiatives/OneAmerica/america.html [President Clinton's Race Initiative]

• www.ojp.usdoj.gov/BJA/html/hatecrms.htm [Hate Crime Initiatives]

• www.ed.gov/offices/OESE/SDFS/safeschools.html [Keeping Schools and Communities Safe]

Dated: June 20, 2000.
John J. Wilson,
Acting Administrator, Office of Juvenile Justice and Delinquency Prevention.

[FR Doc. 00-15927 Filed 6-22-00; 8:45 am]

BILLING CODE 4410-18-P